FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011790-002.

Title: Dole Ocean Cargo Express/King Ocean Services Limited Space Charter Agreement.

Parties: Dole Ocean Cargo Express, Inc., and King Ocean Services Limited.

Filing Party: Wayne R. Rohde, Esq.; Cozen O'Connor; 1627 I Street, NW. Suite 1100; Washington, DC 20006.

Synopsis: The amendment would add Guatemala, Honduras and ports in Costa Rica other than Puerto Moin and Puerto Limon to the geographic scope of the agreement.

Agreement No.: 011842-001.

Title: Crowley/Dole Space Charter Agreement.

Parties: Crowley Latin America Services, LLC and Dole Ocean Cargo Express, Inc.

Filing Party: Wayne R. Rohde, Esq.; Cozen O'Connor; 1627 I Street, NW. Suite 1100; Washington, DC 20006.

Synopsis: The amendment would expand the geographic scope of the agreement to include all of the U.S. Atlantic and Gulf Coasts and all ports and inland points in Costa Rica, Guatemala and Honduras. The amendment would also change Crowley's name and correct its address.

Agreement No.: 012067-009.

Title: U.S. Supplemental Agreement to HLC Agreement.

Parties: BBC Chartering & Logistics GmbH & Co. KG; Beluga Chartering GmbH; Chipolbrok; Clipper Project Ltd.; Hyundai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment would delete Safmarine Container Lines N.V. and add Safmarine MPV N.V. as a party to the U.S. Agreement and to the worldwide Agreement of the Heavy Lift Club.

Agreement No.: 012135-003.

Title: EUKOR Car Carriers, Inc./FOML Space Charter.

Parties: EUKOR Car Carriers, Inc. and FESCO Ocean Management Limited

Filing Parties: Neal M Mayer, Esq.; Hoppel, Mayer & Coleman; 1050 Connecticut Avenue NW, 10th Floor; Washington, DC 20036

Synopsis: The amendment revises the geographic scope of the agreement to include ports in South Korea, and makes corresponding changes to the agreement.

Agreement No.: 012190-001.

Title: HSDG-GWF Space Charter Agreement.

Parties: Hamburg Sud and Great White Fleet Liner Services Ltd.

Filing Party: Wayne R. Rohde, Esq.; Cozen O'Connor; 1627 I Street, NW., Suite 1100; Washington, DC 20006-4007.

Synopsis: The amendment adds Mexico to the geographic scope of the agreement, clarifies language in the agreement, and makes technical corrections to the agreement.

Dated: February 1, 2013.
By Order of the Federal Maritime Commission.
Karen V. Gregory,
Secretary.

[FR Doc. 2013-02674 Filed 2-5-13; 8:45 am]

BILLING CODE 6730-01-P